DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 3, 2000.

Interested persons are invited to submit written comments regarding the subject matter of the investigations to the Director, Division of Trade Adjustment Assistance, at the address shown below, not later than April 3, 2000.

The petitions filed in this case are available for inspection at the Office of the Director, Division of Trade Adjustment Assistance, Employment and Training Administration, U.S. Department of Labor, 200 Constitution Avenue. N.W., Washington, D.C. 20210.

Signed at Washington, D.C. this 14th day of February, 2000.
Grant D. Beale,
Program Manager, Division of Trade Adjustment Assistance.

Appendix
[Petitions instituted on 02/14/2000]
TA-W | Subject firm (petitioners) | Location | Date of petition | Product(s)
37,327 | Energy Knits (Co.) | Denver, PA | 02/03/2000 | Greige Knitted Fabrics.
37,328 | Thaw Corporation (Co.) | Wenatchee, WA | 01/28/2000 | Fleece Outerwear and Thermal Underwear.
37,329 | Crown Yarn (UNITE) | So. Attleboro, MA | 02/02/2000 | Dyed Yarn.
37,330 | Cadillac Curtain Corp. (Co.) | Dyer, TN | 02/02/2000 | Swag Sets.
37,331 | Vesuvius Premier (USWA) | Washington, PA | 01/31/2000 | Firebrick for Industrial Furnaces.
37,332 | Shelby Yard (Co.) | Shelby, NC | 01/25/2000 | Synthetic and Cotton Spun Yarns.
37,333 | S. Bent and Brothers (IUE) | Gardner, MA | 01/26/2000 | Wooden Chairs, Tables.
37,334 | Calgon Corporation (PACE) | Pasadena, TX | 02/01/2000 | Water Treating Chemicals.
37,335 | Calvin Klein (UNITE) | New York, NY | 02/01/2000 | Ladies' Sportswear.
37,336 | ISA Cutting Room Service (UNITE) | El Paso, TX | 02/04/2000 | Pants and Slacks.
37,337 | G and M Cutting Room (UNITE) | El Paso, TX | 02/03/2000 | Patterns—Jeans and Pants.
37,338 | Johnstown Knitting Mill (Co.) | Johnstown, NY | 02/08/2000 | Men, Women and Children's Activewear.
37,339 | Cominco Ltd. (Co.) | Riddle, OR | 01/26/2000 | Ferronickel.
37,340 | Alltex Laminating Corp. (Co.) | Mt. Vernon, NY | 01/19/2000 | Process Synthetic Knitted Fabrics.
37,341A | Komag, Inc (Comp) | Santa Clara, CA | 01/19/2000 | Disks for Computer Disk Drivers.
37,341 | Komag, Inc. (Co.) | San Jose, CA | 01/19/2000 | Disks for Computer Disk Drivers.
37,342 | Assemble USA (Wkrs) | Marion, MO | 02/03/2000 | Coaster Cards.
37,343 | Ro An Jewelry Co., Inc (Wkrs) | Johnston, RI | 02/02/2000 | Costume Jewelry.
37,344 | Monoa Wire Corp (Wkrs) | Greenwood, MS | 01/25/2000 | Wire Harnesses.
37,345 | Sause Brothers (Wkrs) | Coos Bay, OR | 01/11/2000 | Repair Ocean-Going Hauling Vessels.
37,346 | Enaid Sportswear, Inc (Wkrs) | New York, NY | 01/27/2000 | Sportswear and Skirts.
37,347 | Devro Tee Pak, Inc (Wkrs) | Danville, IL | 01/29/2000 | Plastic and Cellulose Meat Casings.
37,348 | McQuay International (Wkrs) | Staunton, VA | 01/27/2000 | Industrial Air Conditioning Equipment.
37,349 | RNV Apparel (Wkrs) | Shade Gap, PA | 02/01/2000 | Garments.
37,350 | Scotts Hill Leisurewear (Wkrs) | Scotts Hill, TN | 01/26/2000 | Ladies' Robes and Loungewear.
37,351 | B. Braun Medical, Inc (Wkrs) | St. Clair, PA | 02/03/2000 | Design I.V. Sets.
37,352 | Cranston Print Works (Co.) | Cranston, RI | 01/26/2000 | Provides Printed Cloth Sampling.
37,353 | Danskin, Inc (Wkrs) | New York, NY | 02/01/2000 | Women's Tights, Leotards, Bra Tops.
37,354 | ITW Signode Metals (Wkrs) | Weirton, WV | 02/02/2000 | Steel Strapping and Metal Seals.
37,355 | Medtronic Perfusion (Wkrs) | Minneapolis, MN | 01/28/2000 | Arterial Filter.
37,356 | U.S. Electrical Motors (Wkrs) | Philadelphia, MS | 01/31/2000 | Electrical Motors.

[FR Doc. 00-7121 Filed 3-21-00; 8:45 am]

BILLING CODE 4510-30-M